FEDERAL EMERGENCY MANAGEMENT AGENCY

44 CFR Part 206

RIN 3067-AD08

Disaster Assistance; Debris Removal

AGENCY: Federal Emergency Management Agency (FEMA).

ACTION: Proposed rule.

SUMMARY: We (FEMA) propose to change the scope of activities that are determined to be in the public interest following a declared disaster. We propose to provide funding for the removal of debris and wreckage when communities convert property acquired through a FEMA program for hazard mitigation purposes to uses compatible with open space, recreational, or wetlands management practices.

DATES: We invite your comments and will accept them until June 30, 2000.

ADDRESSES: Please send any comments to the Rules Docket Clerk, Office of the General Counsel, Federal Emergency Management Agency, room 840, 500 C Street, SW., Washington, DC 20472, (facsimile) 202-646-4536, or (email) rules@fema.gov.

FOR FURTHER INFORMATION CONTACT: Melissa M. Howard, Federal Emergency Management Agency, room 713, 500 C Street SW., Washington, DC 20472, (202) 646-4240, or (email) melissa.howard@fema.gov.

SUPPLEMENTARY INFORMATION: We consider that it is in the public interest to remove substantially damaged structures and related slabs, driveways, fencing, garages, sheds, and similar appurtenances from properties that are part of a FEMA-funded hazard mitigation buyout and relocation project. When the principal structure has been substantially damaged by a major disaster, the removal of such items will help mitigate the risk to life and property by converting the property to uses that are compatible with open space, recreational and wetland management practices. Federal assistance used in this way supports the effort to break the cycle of repetitive damage and repair and is in the public interest because it is less costly to taxpayers than the cycle of repetitive damage and repair. Mitigation through buyout and relocation also substantially reduces the risk of future infrastructure damage and personal hardship, loss and suffering.

National Environmental Policy Act

This rule is excluded from the preparation of an environmental assessment or environmental impact statement under 44 CFR 10.8(d)(2)(ii), where the rule is related to actions that qualify for categorical exclusion under 44 CFR 10.8(d)(2)(vii).

Executive Order 12866, Regulatory Planning and Review

This proposed rule would not adversely affect the availability of disaster assistance funding to small entities, would not have significant secondary or incidental effects on a substantial number of small entities, and would not create any additional burden on small entities. It adds a category of property eligible to receive public assistance following a declared disaster, and will thus benefit those small entities that qualify for this assistance.

As Director I certify that this proposed rule is not a significant regulatory action within the meaning of section 2(f) of E.O. 12866 of September 30, 1993, 58 FR 51735, and that it attempts to adhere to the regulatory principles set forth in E.O. 12866. The Office of Management and Budget has reviewed this rule under E.O. 12866.

Paperwork Reduction Act

This proposed rule does not contain a collection of information and therefore is not subject to the provisions of the Paperwork Reduction Act of 1995.

Executive Order 13132, Federalism

In publishing this proposed rule, we considered the President's Executive Order 13132 on Federalism. This proposed rule makes no changes in the division of governmental responsibilities between the Federal government and the States, but adds a category of property eligible to receive public assistance following a declared disaster. We have determined that Executive Order 13132 does not apply to this regulatory action, and we have not prepared a Federalism assessment.

List of Subjects in 44 CFR Part 206

Disaster assistance.

Accordingly, we propose to amend 44 CFR part 206 as follows:

1. The authority citation for part 206 continues to read as follows:

Authority: The Robert T. Stafford Disaster Relief and Emergency Assistance Act, 42 U.S.C. 5121 et seq.; Reorganization Plan No. 3 of 1978, 43 FR 41943, 3 CFR, 1978 Comp., p. 329; E.O. 12127, 44 FR 19367, 3 CFR, 1979 Comp., p. 376; E.O. 12148, 44 FR 43239, 3 CFR, 1979 Comp., p. 412; and E.O. 12673, 54 FR 12571, 3 CFR, 1989 Comp., p. 214.

PART 206—FEDERAL DISASTER ASSISTANCE FOR DISASTERS DECLARED ON OR AFTER NOVEMBER 23, 1988

2. Amend § 206.224 by revising paragraph (a)(3) and adding paragraph (a)(4) to read as follows:

§ 206.224 Debris removal.

(a) * * *

(3) Ensure economic recovery of the affected community to the benefit of the community-at-large; or

(4) Mitigate the risk to life and property by removing substantially damaged structures and associated appurtenances as needed to convert property acquired through a FEMA hazard mitigation program to uses compatible with open space, recreational, or wetland management practices.

* * * * *

Dated: May 8, 2000.
James L. Witt,
Director.

[FR Doc. 00-12284 Filed 5-15-00; 8:45 am]

BILLING CODE 6718-02-P